DEPARTMENT OF HEALTH AND HUMAN SERVICES

National Institutes of Health

State-of-the-Science Conference on Management of Clinically Inapparent Adrenal Mass (Incidentaloma)

Notice is hereby given of the National Institutes of Health (NIH) State-of-the-Science Conference on “Management of the Clinically Inapparent Adrenal Mass (Incidentaloma)” to be held February 4 to 6, 2002, in the NIH Natcher Conference Center, 45 Center Drive, Bethesda, Maryland 20892. The conference will begin at 8:30 a.m. on February 4 and 5 and at 9:00 a.m. on February 6 and will be open to the public.

Adrenal gland masses occur in at least 3 percent of persons over age 50. Although most cause no symptoms or health problems, a small proportion can lead to serious diseases, and approximately one out of every 4,000 adrenal masses is cancerous. Physicians discover many adrenal masses inadvertently, while testing or treating patients for other conditions. These clinically inapparent masses are commonly known as incidentalomas.

Incidentalomas raise challenging questions for physicians and their patients, including what, if any, surgical or nonsurgical treatment is the best approach. The appropriate management of incidentalomas promises to be an increasingly common challenge for our aging society.

Over the past several years, new information about the epidemiology, biology, screening, treatment, and follow-up of adrenal tumors has become available. This conference will explore and assess the current scientific knowledge regarding adrenal incidentalomas so that health care providers and the general public can make informed decisions about this important public health issue.

During the first day and a half of the conference, experts will present the latest research findings on clinically inapparent adrenal masses to an independent non-Federal panel. After weighing all of the scientific evidence, the panel will draft a statement that will address the following key questions:

• What are the causes, prevalence, and natural history of clinically inapparent adrenal masses?

• Based on available scientific evidence, what is the appropriate evaluation of a clinically inapparent adrenal mass?

• What criteria should guide the decision on surgical versus nonsurgical management of these masses?

• If surgery is indicated, what is the appropriate procedure?

• What is the appropriate follow-up for patients for each management approach?

• What additional research is needed to guide practice?

On the final day of the conference, the panel chair will read the panel's draft statement in public, at which time members of the public are invited to offer comments on the draft.

The National Institute of Child Health and Human Development and the NIH Office of Medical Applications of Research (OMAR) are the primary sponsors of this meeting. The National Cancer Institute will cosponsor the meeting.

Advance information about the conference and conference registration materials may be obtained from Prospect Associates of Silver Spring, Maryland, by calling 301-592-3320 or by sending e-mail to adrenalmass@prospectassoc.com. Prospect Associates' address is 10720 Columbia Pike, Suite 500, Silver Spring, Maryland 20901-4437. A conference agenda and registration information are also available on the NIH Consensus Program Web site at http://consensus.nih.gov.

Please Note: Organizations that wish to make 5-minute presentations on the conference topic should contact Elsa Bray of NIH/OMAR by telephone (301-496-4999) or e-mail (elsabray@nih.gov) no later than January 14, 2002. The NIH has recently instituted new security measures to ensure the safety of NIH employees and property. All visitors must be prepared to show a photo ID upon request. Visitors may be required to pass through a metal detector and have bags, backpacks, or purses inspected or x-rayed as they enter NIH buildings. Conference attendees may want to leave extra bags or personal materials at their hotel to minimize the time needed for inspection. For more information about the new security measures at NIH, please visit the Web site at http://www.nih.gov/about/visitorssecurity.htm.

Dated: November 19, 2001.
Ruth L. Kirschstein,
Acting Director, National Institutes of Health.

[FR Doc. 01-29542 Filed 11-27-01; 8:45 am]

BILLING CODE 4140-01-M